DEPARTMENT OF THE INTERIOR

Bureau of Land Management

[19X.LLAZ921000.L14400000.BJ0000.LXSSA225000.241A]

Notice of Filing of Plats of Survey; Arizona

AGENCY: Bureau of Land Management, Interior.

ACTION: Notice of official filing.

SUMMARY: The plats of survey of the following described lands were officially filed in the Bureau of Land Management (BLM), Arizona State Office, Phoenix, Arizona, on the dates indicated. Surveys announced in this notice are necessary for the management of lands administered by the agencies indicated.

ADDRESSES: These plats will be available for inspection in the Arizona State Office, Bureau of Land Management, One North Central Avenue, Suite 800, Phoenix, Arizona, 85004-4427. Protests of the survey should be sent to the Arizona State Director at the above address.

FOR FURTHER INFORMATION CONTACT: Gerald Davis, Chief Cadastral Surveyor of Arizona; (602) 417-9558; gtdavis@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION:

The Gila and Salt River Meridian, Arizona

The plat, in one sheet, representing the dependent resurvey of portions of Mineral Survey No. 4442, Township 11 North, Range 15 East, accepted October 25, 2018, and officially filed October 26, 2018, for Group 1155, Arizona.

This plat was prepared at the request of the United States Forest Service.

The plat, in one sheet, representing the survey and subdivision of certain sections, Township 37 North, Range 15 East, accepted November 8, 2018, and officially filed November 9, 2018, for Group 1184, Arizona.

This plat was prepared at the request of the Bureau of Indian Affairs.

The plat, in three sheets, representing the corrective dependent resurvey and subdivision of certain sections, Township 22 North, Range 29 East, accepted October 25, 2018, and officially filed October 26, 2018, for Group 1170, Arizona.

This plat was prepared at the request of the Bureau of Land Management.

The plat, in one sheet, representing the corrective dependent resurvey and subdivision of certain sections, Township 22 North, Range 30 East, accepted October 25, 2018, and officially filed October 26, 2018, for Group 1170, Arizona.

This plat was prepared at the request of the Bureau of Land Management.

The plat, in one sheet, representing the dependent resurvey of a portion of the Arizona and New Mexico state boundary from mile corner 119 to mile corner 128, Townships 20, 21 and 22 North, Range 31 East, accepted December 18, 2018, and officially filed January 30, 2019, for Group 1189, Arizona.

This plat was prepared at the request of the Bureau of Land Management.

The plat, in one sheet, representing the realignment of a portion of the metes-and-bounds survey of the Beaver Dam Mountains Wilderness boundary in section 15, Township 41 North, Range 14 West, accepted January 30, 2019, and officially filed January 31, 2019, for Group 1187, Arizona.

This plat was prepared at the request of the Bureau of Land Management.

A person or party who wishes to protest against any of these surveys must file a written notice of protest within 30 calendar days from the date of this publication with the Arizona State Director, Bureau of Land Management, stating that they wish to protest.

A statement of reasons for a protest may be filed with the notice of protest to the State Director, or the statement of reasons must be filed with the State Director within 30 days after the protest is filed. Before including your address, or other personal information in your protest, please be aware that your entire protest, including your personal identifying information, may be made publicly available at any time. While you can ask us in your comment to withhold your personal identifying information from public review, we cannot guarantee that we will be able to do so.

Authority: 43 U.S.C. Chap. 3.

Gerald T. Davis,
Chief Cadastral Surveyor of Arizona.

[FR Doc. 2019-13600 Filed 6-25-19; 8:45 am]

BILLING CODE 4310-32-P